DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Financial Report.

OMB Control Number: 0607-0432.

Form Number(s): QFR-200(MT), QFR-201(MG), QFR-300(S).

Type of Request: Revision of a currently approved collection.

Number of Respondents: 11,890.

Average Hours per Response: 2 hours and 8 minutes.

Burden Hours: 101,258.

Needs and Uses: The Quarterly Financial Report (QFR) program has published up-to-date aggregate statistics on the financial results and position of U.S. corporations since 1947. The program currently collects and publishes financial data for the manufacturing, mining, wholesale trade, retail trade, information, and professional, scientific, and technical services (except legal) sectors. The survey is a principal economic indicator that provides financial data essential to calculation of key U.S. government measures of national economic performance. The importance of this data collection is reflected by the granting of specific authority to conduct the program in Title 13 of the United States Code, Section 91, which requires that financial statistics of business operations be collected and published quarterly. Public Law 109-79, Section 91 extended the authority of the Secretary of Commerce to conduct the QFR program through September 30, 2015. Currently, QFR is in the process of reauthorizing this public law.

The Census Bureau is requesting approval to continue collection of the QFR program. QFR's last submission for forms approval included an announcement of an expansion of its coverage to include four new service sectors. The new sectors included subsectors in Sector 53 (Real Estate and Rental and Leasing), excluding subsector 533 (Lessors of Nonfinancial Intangible Assets); Sector 56 (Administrative and Support and Waste Management and Remediation Services); Sector 62 (Health Care and Social Assistance); and Sector 72 (Accommodation and Food Services) based on the 2007 North American Industry Classification System (NAICS). However, on June 9, 2014, the QFR ceased collection of these additional sectors due to sample restrictions and budget constraints. Notification of this change was announced on the QFR Business Help Site (BHS) Web site and the QFR Publication. Furthermore, we are pursing funding to get the expansion reinstated.

The survey forms used to conduct the QFR are: QFR-200 (MT) Long Form (manufacturing, mining, wholesale trade, and retail trade); QFR-201 (MG) Short Form (manufacturing); and the QFR-300 (S) Long Form (services).

The primary purpose of the QFR is to provide timely, accurate data on business financial conditions for use by Government and private-sector organizations and individuals. The primary public users include the Bureau of Economic Analysis, Federal Reserve Board, Federal Trade Commission, Small Business Administration, U.S. Treasury-Office of Tax Analysis, and the Joint Committee on Taxation. These same organizations play a major role in providing guidance, advice, and support to the QFR program. The primary private-sector data users are a diverse group including universities, financial analysts, unions, trade associations, public libraries, banking institutions, and U.S. and foreign corporations.

Affected Public: Business or other for-profit.

Frequency: Quarterly.

Respondent's Obligation: Mandatory.

Legal Authority: Title 13 U.S.C., Section 91.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: September 8, 2015.
Glenna Mickelson,
Management Analyst, Office of the Chief Information Officer.

[FR Doc. 2015-22894 Filed 9-10-15; 8:45 am]

BILLING CODE 3510-07-P